DEPARTMENT OF HOUSING AND URBAN DEVELOPMENT

[Docket No. FR-5415-C-23A]

Notice of Availability: Notice of Technical Correction to the Notice of Public Interest (NOPI) for Fiscal Year 2010 Transformation Initiative: Homeless Families Demonstration Small Grant Research Program

AGENCY: Office of the Chief of the Human Capital Officer, HUD.

ACTION: Notice of Technical Correction.

SUMMARY: On January 3, 2011, HUD posted on http://www.Grants.gov, a Notice of Public Interest (NOPI) for Fiscal Year 2010 Transformation Initiative: Homeless Families Demonstration Small Grant Research Program. On January 31, 2011, HUD posted to http://www.Grants.gov a technical correction to that notice. The technical correction adds an additional $125,000 in FY2010 funding to the previous amount of approximately $150,000 for a new total of $275,000. Funding for this effort is made available by the Department of Housing and Urban Development Appropriations Act, 2010 (Pub. L. 111-117 approved December 16, 2009). This program is undertaken by HUD's research authority under the Transformation Initiative Fund.

This Technical Correction also extends the pre-application due from Friday, February 18, 2011 to a new pre-application deadline date of March 1, 2011. Applicants do not need to download a new application or resubmit their applications as a result of this notice.

The technical correction notice can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for this program is 14.525. Applications must be submitted electronically through Grants.gov.

FOR FURTHER INFORMATION CONTACT: Questions regarding specific program requirements should be directed to the agency contact identified in the program NOFA. Program staff will not be available to provide guidance on how to prepare the application. Questions regarding the 2010 General Section should be directed to the Office of Grants Management and Oversight at (202) 708-0667 or the NOFA Information Center at 800-HUD-8929 (toll free). Persons with hearing or speech impairments may access these numbers via TTY by calling the Federal Information Relay Service at 800-877-8339.

Dated: February 1, 2011.
Barbara S. Dorf,
Director, Office of Departmental Grants Management and Oversight, Office of the Chief Human Capital Officer.

[FR Doc. 2011-2653 Filed 2-7-11; 8:45 am]

BILLING CODE 4210-67-P